DEPARTMENT OF THE INTERIOR

National Park Service

36 CFR Part 13

[Docket No. NPS-2018-0005; NPS-AKRO-26325; PPAKAKROZ5, PPMPRLE1Y.L00000]

RIN 1024-AE38

Alaska; Hunting and Trapping in National Preserves—Extension of Public Comment Period

AGENCY: National Park Service, Interior.

ACTION: Proposed rule; extension of public comment period.

SUMMARY: The National Park Service is extending the public comment period for the proposed rule to amend its regulations for sport hunting and trapping in National Preserves in Alaska. Extending the comment period will allow more time for the public to review the proposal and submit comments.

DATES: The comment period for the proposed rule published on May 22, 2018 (83 FR 23621), is extended. Comments must be received by 11:59 p.m. EST on November 5, 2018.

ADDRESSES: You may submit comments, identified by Regulation Identifier Number (RIN) 1024-AE38, by one of the following methods:

(1) Electronically: Go to the Federal eRulemaking Portal: http://www.regulations.gov. Follow the instructions for submitting comments.

(2) By hard copy: Submit by U.S. mail or hand delivery to: National Park Service, Regional Director, Alaska Regional Office, 240 West 5th Ave., Anchorage, AK 99501.

We request that you send comments only by the methods described above. Comments will not be accepted by fax, email, or in any way other than those specified above. We will post comments to http://www.regulations.gov. This generally means that we will post any personal information you provide us. All submissions received must include the words “National Park Service” or “NPS” and must include the docket number (NPS-2018-0005) or RIN (1024-AE38) for this rulemaking.

FOR FURTHER INFORMATION CONTACT: Herbert C. Frost, Regional Director, Alaska Regional Office, 240 West 5th Ave., Anchorage, AK 99501. Phone (907) 644-3510. Email: AKR_Regulations@nps.gov.

SUPPLEMENTARY INFORMATION: On May 22, 2018, the National Park Service (NPS) published in the Federal Register (83 FR 23621) a proposed rule to amend its regulations for sport hunting and trapping in National Preserves in Alaska. This proposed rule would remove a regulatory provision issued by the NPS in 2015 that prohibited certain sport hunting practices that are otherwise permitted by the State of Alaska. These proposed changes are consistent with Secretary of the Interior Orders 3347 and 3356. The public comment period for this proposal is scheduled to close on September 6, 2018. In order to give the public additional time to review and comment on the proposal, the NPS is extending the public comment period until Monday November 5, 2018. This date matches the deadline to submit comments on the related Environmental Assessment. Comments previously submitted on the proposed rule need not be resubmitted, as they will be fully considered in preparing the final rule.

Andrea Travnicek,
Principal Deputy Assistant Secretary—Water and Science Exercising the Authority of the Assistant Secretary for Fish and Wildlife and Parks.

[FR Doc. 2018-19293 Filed 9-5-18; 8:45 am]

BILLING CODE 4310-EJ-P